DEPARTMENT OF COMMERCE

National Oceanic and Atmospheric Administration

RIN 0648-XL39

Gulf of Mexico Fishery Management Council; Public Meetings

AGENCY: National Marine Fisheries Service (NMFS), National Oceanic and Atmospheric Administration (NOAA), Commerce.

ACTION: Notice of public meetings.

SUMMARY: The Gulf of Mexico Fishery Management Council will convene a public meeting of the Louisiana/Mississippi Habitat Protection Advisory Panel (AP).

DATES: The meeting will convene at 9 a.m. on Thursday, November 13, 2008 and conclude no later than 4 p.m.

ADDRESSES: This meeting will be held at the Hilton, 901 Airline Drive, Kenner, LA 70062.

Council address: Gulf of Mexico Fishery Management Council, 2203 North Lois Avenue, Suite 1100, Tampa, FL 33607.

FOR FURTHER INFORMATION CONTACT: Jeff Rester, Habitat Support Specialist, Gulf States Marine Fisheries Commission; telephone: (228) 875-5912.

SUPPLEMENTARY INFORMATION: At this meeting, the AP will discuss the Donaldsonville to the Gulf Levee Project, 2008 hurricane impacts on habitat, monitoring results from the 2008 Bonnet Carre Spillway opening, open water disposal of dredge material in Mississippi Sound, and an update on the Louisiana Coastal Protection and Restoration Project.

The Louisiana/Mississippi group is part of a three unit Habitat Protection AP of the Gulf of Mexico Fishery Management Council. The principal role of the advisory panels is to assist the Council in attempting to maintain optimum conditions within the habitat and ecosystems supporting the marine resources of the Gulf of Mexico. Advisory panels serve as a first alert system to call to the Council's attention proposed projects being developed and other activities which may adversely impact the Gulf marine fisheries and their supporting ecosystems. The panels may also provide advice to the Council on its policies and procedures for addressing environmental affairs.

Although other issues not on the agenda may come before the panel for discussion, in accordance with the Magnuson-Stevens Fishery Conservation and Management Act, those issues may not be the subject of formal panel action during this meeting. Panel action will be restricted to those issues specifically identified in the agenda listed as available by this notice.

A copy of the agenda can be obtained by calling (813) 348-1630.

Special Accommodations

This meeting is physically accessible to people with disabilities. Requests for sign language interpretation or other auxiliary aids should be directed to Tina O'Hern at the Council (see ADDRESSES) at least 5 working days prior to the meeting.

Dated: October 16, 2008.
Tracey L. Thompson,
Acting Director, Office of Sustainable Fisheries, National Marine Fisheries Service.

[FR Doc. E8-25013 Filed 10-20-08; 8:45 am]

BILLING CODE 3510-22-S